DEPARTMENT OF AGRICULTURE

Forest Service

Request for Information (RFI) Regarding Wildfire Crisis Implementation Plan

AGENCY: Forest Service, Agriculture (USDA).

ACTION: Request for information.

SUMMARY: The Forest Service invites public comment on the framework, focus, and direction of its Wildfire Crisis Implementation Plan associated with the Wildfire Crisis Strategy and specific provisions of the Infrastructure Investment and Jobs Act, 2021. This Implementation Plan differs from a land management plan, which is a requirement of the National Forest Management Act. The Wildfire Crisis Implementation Plan will provide a cross-jurisdictional blueprint for coordination, collaboration and funding of restoration treatments specifically designed to reduce wildfire risk to people, communities, and natural resources in high priority, at-risk landscapes. It is intended to be a living document informed by public engagement and outreach, and projects/actions will comply with National Environmental Policy Act (NEPA) accordingly. We invite public comment on specific elements of the Implementation Plan, per questions outlined below. Comments will be considered in further developing and refining approaches taken by the Forest Service.

DATES: Comments must be received in writing by July 6, 2022.

ADDRESSES: Written comments concerning this notice should be sent via email to https://cara.fs2c.usda.gov/Public/CommentInput?project=NP-3172.

FOR FURTHER INFORMATION CONTACT: Andrea Bedell-Loucks, Engagement and Strategic Partnerships, Wildfire Risk Reduction Infrastructure Team, (202) 295-7968, andrea.loucks@usda.gov. Individuals who use telecommunication devices for the deaf or hard of hearing (TDD) may call the Federal Relay Service (FRS) at 800-877-8339 24 hours a day, every day of the year, including holidays.

SUPPLEMENTARY INFORMATION: The purpose of this RFI is to inform the public and gather feedback on potential future implementation efforts associated with provisions of the Infrastructure Investment and Jobs Act, 2021 (Pub. L. 117-58, Division D Title VIII, Sec. 40803(b)) and the Forest Service's Wildfire Crisis Strategy (https://www.fs.usda.gov/sites/default/files/Confronting-Wildfire-Crisis.pdf). This Implementation Plan differs from a land management plan, which is a requirement of the National Forest Management Act and “guides management of National Forest System lands” (36 CFR 219.1(c)).

Background. The past 10 wildfire seasons, including 2020-2021, highlighted the incredible challenges associated with keeping communities safe and more resilient to the impacts of climate change and extreme weather events. These challenges underscore a growing need for a new land management approach within the Forest Service—one that is designed to support strategic management and restoration of millions of acres of land in high-risk areas to protect forest health, watershed function, and human infrastructure.

With the need for increased pace and scale of restoration associated with the Wildfire Crisis Strategy, the Forest Service aims to approach on-going challenges holistically and in partnership with employees, multiple agencies, Tribal and other governments, communities, industries, organizations, and private landowners.

To help inform the development of the Implementation Plan, the Forest Service has partnered with the National Forest Foundation to host a series of virtual roundtable discussions with internal and external audiences. Eight regional roundtables have been conducted since February 2022, and two additional roundtables are planned (Region 9- May 31, June 1-2 and Region 10- June 7-9). These roundtables are intended to strengthen shared approaches to how the Forest Service, Tribal Nations, State and local governments, Federal agencies, and partners work together to reduce risk by moving from small-scale, independently managed treatments to strategic, science-based, landscape-scale treatments. Information on the roundtable discussions hosted by the National Forest Foundation can be found at https://www.nationalforests.org/collaboration-resources/wildfire-crisis-strategy-roundtables.

Input Requested. Input is sought on the key thematic questions covered in roundtable discussions to ensure that the Agency develops its Implementation Plan with diverse input from all involved, interested, and affected parties. Our intent with the issuance of this notice is to consider such input and, as appropriate, incorporate it to update and refine the Wildfire Crisis Implementation Plan (https://www.fs.usda.gov/sites/default/files/Wildfire-Crisis-Implementation-Plan.pdf). The Forest Service is especially interested in receiving input on the following topics, listed alphabetically with questions for consideration:

Cross-boundary Partnerships. No single entity can accomplish all the work needed to achieve the collective restoration that our forests and communities need. We must build and maintain multi-jurisdictional coalitions to work across landscapes, leverage capacity, and build public and community support for this work. Key questions associated with cross-boundary partnerships include: What are examples of successful tools and approaches to multi-jurisdictional restoration work? Are there process or policy barriers to cross-boundary partnerships that you have encountered, including an ability to reach under-served populations, and if so, what are some potential solutions to these barriers? What can we readily build upon at a regional or national level to advance cross-boundary partnerships and large-scale forest resiliency?

Forest Products and Markets. The wood products industry has been, and will remain, an important partner for helping to achieve restoration outcomes and reduce wildfire risk. New and innovative uses of forest products not only support restoration and reduce risk, but also sequester large quantities of carbon. In these efforts, we will need to explore current market capacity and room for innovation. Key questions associated with forest products and markets include: What are the on-going challenges to a healthy forest products market? How might the Forest Service, Tribal Nations, State and local governments, and other organizations work together to grow markets and market potential? What opportunities are there to expand market potential and access tribal and underserved communities?

Outcome-based Metrics and Prioritization. We are focused on outcome-based work to achieve mutually desired priorities, including risk to people, communities, natural resources, and other values at the landscape scale. We will develop outcome-based performance measures to track accomplishments, to measure effectiveness, and to inform continued work. Key questions associated with outcome-based metrics and prioritization include: What successful prioritization approaches have you seen at the landscape scale? How are Tribal Nations, State and local governments, and partners involved? How have the needs of underserved and socially vulnerable communities (including tribal communities), and the impacts on these communities, been considered? What tools are you currently using or interested in using, and why?

Science Supporting Wildfire Risk Reduction. Delineation of priority treatment areas and subsequent project design will be supported by the best available science, including social science and Traditional and Indigenous Ecological Knowledge. Key questions associated with science application include: What types of science products do you rely upon to support this work? What do you see as current gaps and information needs in the science of fuels and fire risk reduction efforts? How effective is information sharing across communities, agencies, disciplines, and scales (local, regional, and national), and what can be done to improve or sustain such sharing?

Workforce Capacity. We need to rebuild skills and workforce capacity to accomplish management treatments and fully engage with communities at the necessary pace and scale. This will require building and sustaining an inclusive workforce across governments and organizations. Key questions associated with workforce capacity include: What major constraints are you facing around workforce capacity? What key workforce skills and knowledge are needed for fuels reduction work? How might we ensure our collective workforce is well-positioned to engage and support underserved and socially vulnerable communities? Are there existing training or workforce development programs that you have developed or are using/leveraging for this work?

Conclusion. The Forest Service is considering how best to proceed in further developing and refining its implementation of the Wildfire Crisis Strategy. Your input relating to the questions listed above will be helpful in building this Plan.

Dated: May 31, 2022.
Brian Ferebee,
Senior Executive, Intergovernmental Affairs, USDA Forest Service.

[FR Doc. 2022-12071 Filed 6-3-22; 8:45 am]

BILLING CODE 3411-15-P